DEPARTMENT OF DEFENSE

Department of the Army

Privacy Act of 1974; System of Records

AGENCY: Department of the Army, DoD.

ACTION: Notice to add a system of records.

SUMMARY: The Department of the Army is proposing to add a system of records to its existing inventory of records systems subject to the Privacy Act of 1974, (5 U.S.C. 552a), as amended.

DATES: The proposed action will be effective on November 25, 2005 unless comments are received that would result in a contrary determination.

ADDRESSES: Department of the Army, Freedom of Information/Privacy Division, U.S. Army Records Management and Declassification Agency, Attn: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on October 17, 2005, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: October 17, 2005.
L.M. Bynum,
OSD Federal Register Liaison Officer, Department of Defense.

A0600-20 DCS, G-1

System name:

Sexual Assault Data Management System (SADMS) Files.

System location:

Headquarters, Department of the Army, Staff and field operating agencies, major commands, installations and activities. Official mailing addresses are published as an appendix to the Army's compilation of systems of records notices.

Categories of individuals covered by the system:

Any individual, military or civilian, who has been identified as the victim of a sexual assault allegedly committed by a member of the Armed Forces. Any member of the Armed Forces who has been identified as the victim of a sexual assault allegedly committed by a civilian. Any individual, military or civilian, who has been identified as the perpetrator of an alleged sexual assault against a member of the Armed Forces. Any member of the Armed Forces who has been identified as the perpetrator of an alleged sexual assault against a civilian.

Categories of records in the system:

Name, Social Security Number (SSN), date of birth, demographic information, and Service data; investigation related information which may include summary of the assault, data from police reports, DNA processing dates; documents created as a result of the assistance provided; medical records data relating to initial and final treatment dates and aggregate count of intermediate medical treatment contacts with the victim; similar records/reports relating to victim support extended by installation and/or unit advocates; and reports of actions taken by commanders against offenders.

Authority for maintenance of the system:

Pub. L. 108-375, Section 577; 10 U.S.C. 3013, Secretary of the Army; DoD Directive 1030.1, Victim and Witness Assistance; AR 27-10 Military Justice; AR 40-66 Medical Record Administration and Health Care Documentation; AR 195-2 Criminal Investigation Activities; AR 608-18, Family Advocacy Program; AR 600-20, Army Command Policy; and EO 9397 (SSN).

Purpose(s):

To provide a centralized application to document all relevant data regarding sexual assault cases, including health care provided to victims who are members of the Armed Forces and are treated at Army Medical Treatment Facilities, resolution of the investigation, and disciplinary action, if any; and to provide compilation of statistical data and management reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Congress and other agencies, as appropriate, in compliance with Public Law 108-375.

The DoD “Blanket Routine Uses” set forth at the beginning of the Army's compilation of systems of records notices also apply to this system.

Policies and practices for storing, retrieving, accessing, retaining, and disposing of records in the system:

Storage:

Electronic storage media.

Retrievability:

Name and Social Security Number (SSN).

Safeguards:

All records are maintained in areas accessible only to authorized personnel who have official need in the performance of their assigned duties. Automated records are further protected by assignment of users' identification and password to protect the system from unauthorized access. User identification and passwords are changed at random times. The system employs Secure Socket Layer (SSL) certificate and encryption of provide further protection from unauthorized access to personal data. During non-duty hours, military police or contract guard patrols ensure protection against unauthorized access.

Retention and disposal:

Disposition pending (until the National Archives and Records Administration has approved retention and disposition of these records, treat as permanent).

System manager(s) and address:

Chief, Human Factors Division, Deputy Chief of Staff, Army G-1, ATTN: DAPE-HR-HF, 300 Army Pentagon, Washington, DC 20310-0300.

Notification procedure:

Individuals seeking to determine whether information about themselves is contained in this system should address written inquiries to Deputy Chief of Staff, Army G-1, ATTN: DAPE-HR-HF, 300 Army Pentagon, Washington, DC 20310-0300.

For verification purposes, individual should provide his/her full name, current address and telephone number and other personal identifying data that would assist in locating the records. The inquiry must be signed.

Records Access Procedure:

Individuals seeking access to information about themselves contained in this system should address written inquiries to the Deputy Chief of Staff, Army G-1, ATTN: DAPE-HR-HF, 300 Army Pentagon, Washington, DC 20310-0300.

Individuals should provide his/her full name, current address and telephone number and other personal identifying data that would assist in locating the records. The inquiry must be signed.

Contesting Records Procedures:

The Army's rules for accessing records, and for contesting contents and appealing initial agency determinations are contained in Army Regulation 340-21; 32 CFR part 505; or may be obtained from the system manager.

Record Source Categories:

Records in this system are derived from data originally maintained in the following official Army systems: Army Criminal Investigation Intelligence System (ZCI2); Central Operations Police Suite (COPS); Sexual Assault Response Program Tracking Application (SARPTA); Sexual Assault Training and Tracking System (SATTS); and Army Court Martial Information System (ACMIS).

Exemptions claimed for the system:

This system of records is a compilation of information from other Department of Army systems of records. To the extent that copies of exempt records from those other systems of records are entered into SADMS, the Army G-1 hereby claims the same exemptions for the records from those other systems that are entered into this system, as claimed for the original primary system of which they are a part.

An exemption rule for this system has been promulgated in accordance with requirements of 5 U.S.C. 553(b)(1), (2), and (3), (c) and (e) and published in 32 CFR part 505. For additional information contact the system manager.

[FR Doc. 05-21112 Filed 10-24-05; 8:45 am]

BILLING CODE 5001-06-M